DEPARTMENT OF ENERGY

Federal Energy Regulatory Commission

[Docket Nos. FC13-1-000 et al.]

Notice of Effectiveness of Foreign Utility Company Status

| Docket Nos.
Pacific Northern Gas Ltd. | FC13-1-000
AtlaGas Utilities Inc. | FC13-2-000
Heritage Gas Ltd. | FC13-3-000
McNair Creek Hydro Limited Partnership | FC13-4-000
AtlaGas Pipeline Partnership | FC13-5-000
Bear Mountain Wind Limited Partnership | FC13-6-000

Take notice that during the month of February 2013, the status of the above-captioned entities as Foreign Utility Companies became effective by operation of the Commission's regulations. 18 CFR 366.7(a).

Dated: March 7, 2013.
Kimberly D. Bose,
Secretary.

[FR Doc. 2013-05951 Filed 3-14-13; 8:45 am]

BILLING CODE 6717-01-P